DEPARTMENT OF TRANSPORTATION

Federal Aviation Administration

14 CFR Part 39

[Docket No. 2000-NE-15-AD; Amendment 39-12275; AD 2001-12-19]

RIN 2120-AA64

Airworthiness Directives; Turbomeca S.A. Artouste II and Artouste III Series Turboshaft Engines

AGENCY: Federal Aviation Administration, DOT.

ACTION: Final rule.

SUMMARY: This amendment adopts a new airworthiness directive (AD), that is applicable to Turbomeca S.A. Artouste II and Artouste III series turboshaft engines. This amendment requires installation of modification TU 24, TU 167, or TU 164, depending on the specific engine series. These modifications will prevent uncommanded partial closing or total closing of the electrical fuel cock, which will prevent uncommanded in-flight engine shutdown. From the effective date of this AD, and until the modification is installed, this amendment will also limit the duration of the engine operating cycle. This amendment is prompted by reports of unexpected power loss during test flights. The actions specified by this AD are intended to prevent unexpected power loss, which could result in an uncommanded in-flight engine shutdown, autorotation, and forced landing.

DATES: Effective date July 26, 2001. The incorporation by reference of certain publications listed in the regulations is approved by the Director of the Federal Register as of July 26, 2001.

ADDRESSES: The service information referenced in this AD may be obtained from Turbomeca S.A, Turbomeca S.A.64511 Bordes Cedex, France; telephone 33 05 59 64 40 00, fax 33 05 59 64 60 80. This information may be examined at the FAA, New England Region, Office of the Regional Counsel, 12 New England Executive Park, Burlington, MA., or at the Office of the Federal Register, 800 North Capitol Street, NW., suite 700, Washington, DC.

FOR FURTHER INFORMATION CONTACT: Glorianne Niebuhr, Aerospace Engineer, Engine Certification Office, FAA, Engine and Propeller Directorate, 12 New England Executive Park, Burlington, MA 01803-5299; telephone (781) 238-7132; fax (781) 238-7199.

SUPPLEMENTARY INFORMATION: A proposal to amend part 39 of the Federal Aviation Regulations (14 CFR part 39) to include an AD that is applicable to Turbomeca Artouste II and Artouste III series turboshaft engines was published in the Federal Register on May 31, 2000 (65 FR 34602). That action proposed to require installation of modification TU 24, TU 167, or TU 164, depending on the specific engine series, in accordance with Turbomeca Artouste II Service Bulletin (SB) No. 223 72 0070, dated January 21, 1999; Turbomeca Artouste III SB No. 218 80 0098, dated January 14, 1999; or Turbomeca Artouste III SB No. 218 80 0093, Revision 2, dated January 14, 1999.

Comments

Interested persons have been afforded an opportunity to participate in the making of this amendment. No comments were received on the proposal or the FAA's determination of the cost to the public. The FAA has determined that air safety and the public interest require the adoption of the rule as proposed.

There are approximately 3,102 Turbomeca S.A. Artouste II and Artouste III series turboshaft engines of the affected design in the worldwide fleet. The FAA estimates that 213 engines installed on helicopters of US registry would be affected by this proposed AD, that it would take approximately two work hours per engine to accomplish the proposed actions, and that the average labor rate is $60 per work hour. Required parts would cost approximately $630 per engine. Based on these figures, the total cost impact of the proposed AD on US operators is estimated to be $159,750. The manufacturer has advised the Direction Generale de L'Aviation Civile (DGAC), which is the airworthiness authority for France, that it may provide modification TU 24, TU 164, or TU 167 at no cost to the operator, thereby substantially reducing the cost impact of this proposed rule.

Regulatory Impact

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-12-19 Turbomeca S.A.: Amendment 39-12275. Docket No. 2000-NE-15-AD.

Applicability

This airworthiness directive (AD) is applicable to Turbomeca S.A. Artouste II and Artouste III series turboshaft engines. These engines are installed on, but not limited to, Alouette II SE 3130, Alouette II SE 313 B, Eurocopter SA 315 LAMA, and SA 316 Alouette III series helicopters.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (h) of this AD. The request should include an assessment of the effect of the modification, alteration, or repair on the unsafe condition addressed by this AD; and, if the unsafe condition has not been eliminated, the request should include specific proposed actions to address it.

Compliance

Required as indicated, unless accomplished previously.

To prevent unexpected power loss, which could result in an uncommanded in-flight engine shutdown, autorotation, and forced landing, accomplish the following:

For Artouste II Engines

(a) As of the effective date of this AD, the duration of the operating cycle (start-up to shutdown) is limited to two hours total until modification TU 24 is installed in accordance with Turbomeca Artouste II Service Bulletin (SB) 218 80 0070, Section 2, dated January 21, 1999.

(b) At the next shop visit, within 30 days, or within 120 cycles after the effective date of this AD, whichever occurs first, install modification TU 24 in accordance with Turbomeca Artouste II SB 218 80 0070, Section 2, dated January 21, 1999.

For Artouste III B and Artouste III B1 Engines

(c) As of the effective date of this AD, the duration of the operating cycle (start-up to shutdown) is limited to two hours total until modification TU 167 is installed in accordance with Turbomeca Artouste III SB 218 80 0093, Revision 2, Section 2, dated January 14, 1999.

(d) At the next shop visit, within 30 days, or within 120 cycles after the effective date of this AD, whichever occurs first, install modification TU 167 in accordance with Turbomeca Artouste III Service Bulletin 218 80 0093, Revision 2, Section 2, dated January 14, 1999.

For Artouste III D Engines

(e) As of the effective date of this AD, the duration of the operating cycle (start-up to shutdown) is limited to two hours total until modification TU 164 is installed in accordance with Turbomeca Artouste III Service Bulletin 218 80 0098, Section 2, dated January 14, 1999.

(f) At the next shop visit, within 30 days, or within 120 cycles after the effective date of this AD, whichever occurs first, install modification TU 164 in accordance with Turbomeca Artouste III Service Bulletin 218 80 0098, Section 2, dated January 14, 1999.

Definition

(g) For the purpose of this AD, a shop visit is defined as any time when the engine is removed from the helicopter for maintenance.

Alternative Methods of Compliance

(h) An alternative method of compliance or adjustment of the compliance time that provides an acceptable level of safety may be used if approved by the Manager, Engine Certification Office. Operators shall submit their request through an appropriate FAA Principal Maintenance Inspector, who may add comments and then send it to the Manager, Engine Certification Office.

Note 2: Information concerning the existence of approved alternative methods of compliance with this airworthiness directive, if any, may be obtained from the Engine Certification Office.

Special Flight Permits

(i) Special flight permits may be issued in accordance with sections 21.197 and 21.199 of the Federal Aviation Regulations (14 CFR 21.197 and 21.199) to operate the helicopter to a location where the requirements of this AD can be accomplished.

Documents That Have Been Incorporated by Reference

(j) The inspection shall be done in accordance with the following Turbomeca service bulletins (SBs):

Document No. | Pages | Revision | Date
SB Artouste II SB 223 72 0070; Total pages: 16 | All | Original | Jan. 21, 1999.
SB Artouste III SB 218 80 0093; Total pages: 18 | All | 2 | Jan. 14, 1999.
SB Artouste III SB 218 80 0098; Total pages: 10 | All | Original | Jan. 14, 1999.

This incorporation by reference was approved by the Director of the Federal Register in accordance with 5 U.S.C. 552(a) and 1 CFR part 51. Copies may be obtained from Turbomeca S.A., 40220 Tarnos, France; telephone 33 05 59 64 40 00, fax 33 05 59 64 60 80. Copies may be inspected at the FAA, New England Region, Office of the Regional Counsel, 12 New England Executive Park, Burlington, MA; or at the Office of the Federal Register, 800 North Capitol Street, NW, suite 700, Washington, DC.

Note 3: The subject of this AD is addressed in Direction Generale de L'Aviation Civile (DGAC) Airworthiness Directive (AD) 1999-005(A), dated January 13, 1999, and AD 1999-090(A), dated February 24, 1999.

Effective Date

(k) This amendment becomes effective on July 26, 2001.

Issued in Burlington, Massachusetts, on June 11, 2001.
Jay J. Pardee,
Manager, Engine and Propeller Directorate, Aircraft Certification Service.

[FR Doc. 01-15392 Filed 6-20-01; 8:45 am]

BILLING CODE 4910-13-P